Executive Order 13543 of May 21, 2010

National Commission on the BP Deepwater Horizon Oil Spill and Offshore Drilling

By the authority vested in me as President by the Constitution and the laws of the United States of America, it is hereby ordered as follows:

Section 1. Establishment. There is established the National Commission on the BP Deepwater Horizon Oil Spill and Offshore Drilling (the “Commission”).

Sec. 2. Membership. (a) The Commission shall be composed of not more than 7 members who shall be appointed by the President. The members shall be drawn from among distinguished individuals, and may include those with experience in or representing the scientific, engineering, and environmental communities, the oil and gas industry, or any other area determined by the President to be of value to the Commission in carrying out its duties.

(b) The President shall designate from among the Commission members two members to serve as Co-Chairs.

Sec. 3. Mission. The Commission shall:

(a) examine the relevant facts and circumstances concerning the root causes of the Deepwater Horizon oil disaster;

(b) develop options for guarding against, and mitigating the impact of, oil spills associated with offshore drilling, taking into consideration the environmental, public health, and economic effects of such options, including options involving:

(1) improvements to Federal laws, regulations, and industry practices applicable to offshore drilling that would ensure effective oversight, monitoring, and response capabilities; protect public health and safety, occupational health and safety, and the environment and natural resources; and address affected communities; and

(2) organizational or other reforms of Federal agencies or processes necessary to ensure such improvements are implemented and maintained.

(c) submit a final public report to the President with its findings and options for consideration within 6 months of the date of the Commission's first meeting.

Sec. 4. Administration. (a) The Commission shall hold public hearings and shall request information including relevant documents from Federal, State, and local officials, nongovernmental organizations, private entities, scientific institutions, industry and workforce representatives, communities, and others affected by the Deepwater Horizon oil disaster, as necessary to carry out its mission.

(b) The heads of executive departments and agencies, to the extent permitted by law and consistent with their ongoing activities in response to the oil spill, shall provide the Commission such information and cooperation as it may require for purposes of carrying out its mission.

(c) In carrying out its mission, the Commission shall be informed by, and shall strive to avoid duplicating, the analyses and investigations undertaken by other governmental, nongovernmental, and independent entities.

(d) The Commission shall ensure that it does not interfere with or disrupt any ongoing or anticipated civil or criminal investigation or law enforcement activities or any effort to recover response costs or damages arising out of the Deepwater Horizon explosion, fire, and oil spill. The Commission shall consult with the Department of Justice concerning the Commission's activities to avoid any risk of such interference or disruption.

(e) The Commission shall have a staff, headed by an Executive Director.

(f) The Commission shall terminate 60 days after submitting its final report.

Sec. 5. General Provisions. (a) To the extent permitted by law, and subject to the availability of appropriations, the Secretary of Energy shall provide the Commission with such administrative services, funds, facilities, staff, and other support services as may be necessary to carry out its mission.

(b) Insofar as the Federal Advisory Committee Act, as amended (5 U.S.C. App.) (the “Act”), may apply to the Commission, any functions of the President under that Act, except for those in section 6 of the Act, shall be performed by the Secretary of Energy in accordance with guidelines issued by the Administrator of General Services.

(c) Members of the Commission shall serve without any additional compensation for their work on the Commission, but shall be allowed travel expenses, including per diem in lieu of subsistence, to the extent permitted by law for persons serving intermittently in the Government service (5 U.S.C. 5701-5707).

(d) Nothing in this order shall be construed to impair or otherwise affect:

(1) authority granted by law to a department, agency, or the head thereof; or

(2) functions of the Director of the Office of Management and Budget relating to budgetary, administrative, or legislative proposals.

(e) This order is not intended to, and does not, create any right or benefit, substantive or procedural, enforceable at law or in equity by any party against the United States, its departments, agencies, or entities, its officers, employees, or agents, or any other person.

THE WHITE HOUSE,

May 21, 2010.

[FR Doc. 2010-12805

Filed 5-25-10; 8:45 am]

Billing code 3195-W0-P